DEPARTMENT OF LABOR

Employment and Training Administration

[TA-W-58,861]

Campbell Hausfeld/Scott Fetzr Company, Including Leased On-Site Workers From Superior Staffing, Leitchfield, KY; Certification Regarding Eligibility To Apply for Worker Adjustment Assistance and Negative Determination Regarding Eligibility To Apply for Alternative Trade Adjustment Assistance

In accordance with section 223 of the Trade Act of 1974 (19 U.S.C. 2273), as amended, the Department of Labor herein presents the results of its investigation regarding certification of eligibility to apply for worker adjustment assistance.

In order to make an affirmative determination and issue a certification of eligibility to apply for Trade Adjustment Assistance, the group eligibility requirements in either paragraph (a)(2)(A) or (a)(2)(B) of section 222 of the Trade Act must be met. It is determined in this case that the requirements of (a)(2)(B) of section 222 have been met.

The investigation was initiated on February 17, 2006 and filed on behalf of workers at Campbell Hausfeld/Scott Fetzer Company, Leitchfield, Kentucky. The workers produce air compressors.

The investigation revealed that the subject firm leased some on-site production workers from Superior Staffing. The investigation revealed that employment, sales, and production at the subject firm declined in 2005 compared with 2004 and also in January-February 2006 compared with the same period of 2005. Company imports of air compressors increased during the above periods.

In accordance with section 246 the Trade Act of 1974 (26 U.S.C. 2813), as amended, the Department of Labor herein presents the results of its investigation regarding certification of eligibility to apply for alternative trade adjustment assistance (ATAA) for older workers.

The group eligibility criteria for the ATAA program the Department must consider under section 246 of the Trade Act are:

1. Whether a significant number of workers in the workers' firm are 50 years of age or older.

2. Whether the workers in the workers' firm possess skills that are not easily transferable.

3. The competitive conditions within the workers' industry (i.e., conditions within the industry are adverse).

The Department has determined that criterion 2 has not been met. The investigation revealed that the workers in the workers' firm possess skills that are easily transferable.

Conclusion

After careful review of the facts obtained in the investigation, I determine that increases of imports of articles like or directly competitive with those produced by the subject firm contributed importantly to the total or partial separation of workers and to the decline in sales or production at that firm. In accordance with the provisions of the Act, I make the following certification:

“All workers of Campbell Hausfeld/Scott Fetzer Company, including leased on-site production workers from Superior Staffing, Leitchfield, Kentucky, who became totally or partially separated from employment on or after February 2, 2005, through two years from the date of certification, are eligible to apply for adjustment assistance under section 223 of the Trade Act of 1974.”

I further determine that all workers of Campbell Hausfeld/Scott Fetzer Company, including leased on-site production workers from Superior Staffing, Leitchfield, Kentucky, are denied eligibility to apply for alternative trade adjustment assistance under section 246 of the Trade Act of 1974, as amended.

Signed in Washington, DC, this 13th day of March, 2006.
Richard Church,
Certifying Officer, Division of Trade Adjustment Assistance.

[FR Doc. E6-6406 Filed 4-27-06; 8:45 am]

BILLING CODE 4510-30-P